FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Ramses Logistics USA, Inc., 370 S. Crenshaw Blvd., #E202N, Torrance, CA 90503. Officers: Young H. Cho, CFO (Qualifying Individual), Rae Moon Park, President.

JT Worldwide Corporation, 1310 Rock Cove Ct., Hoffman Estates, IL 60195. Officers: Junyuan Tsang, President (Qualifying Individual), Heoung Joo Lim, Vice President.

J Eastern Transport International, Inc., Eastern Transport International, 555 W. Redondo Beach Blvd., #203, Gardena, CA 90248. Officer: Joon Seok Kim, President (Qualifying Individual).

Nara Express Incorporated, 5150 East La Palma Avenue, Suite 210, Anaheim Hills, CA 92807, Officers: Michael Kiyoup Kim, Vice President (Qualifying Individual), Jin Kul Kim, President.

ACGroup Worldwide Logistics Inc., 701 W. Manchester Blvd., Suite 203, Inglewood, CA 90301. Officers: Tonney Tung, President (Qualifying Individual), Foo Kia Kuan, Director.

Eagle Maritime, Inc., 1421 Witherspoon Street, Rahway, NJ 07065. Officer: Rajiv Dixit, President (Qualifying Individual).

Standard Caribbean Shipping, Inc., 8202 Foster Avenue, Brooklyn, NY 11236. Officer: Carl Munro, President (Qualifying Individual).

International Freight & Logistics, Inc., 1530 Smith Circle, #401, Wichita, KS 67212. Officer: Rory J. Arnott, President (Qualifying Individual).

Non-Vessel Operating Common Carrier and Ocean Freight Forwarder Transportation Intermediary Applicants

Aqual Maritime Services, 3639 Campfield Ct., Katy, TX 77449. Christopher Onyekwere, Sole Proprietor.

Sea Central Shipping Corp., 2377 Guy N. Verger Blvd., Tampa, FL 33605. Officers: Roberto Cordovez, Operations Manager (Qualifying Individual), Pedro S. Javier Sarabia, President.

KLS Air Express, Inc. dba FSP Maritime, dba Freight Solution Providers, 3231 Evergreen Avenue, West Sacramento, CA 95691. Officers: Michael Dew, Vice President (Qualifying Individual), Lelanie Steers, Director, President.

NK America, Inc., 2640 Campbell Road, Sidney, OH 45365. Officer: Masami Hiraoka, Vice President (Qualifying Individual).

Argonaut-Kennedy LLC. dba AMK Lines, 6875 Middlebelt Road, Romulus, MI 48174. Officers: Lia A. Wood, Vice President (Qualifying Individual), Michael Kennedy, President.

Berr International, Inc., 8344 NW, 30 Terrace, Miami, FL 33122. Officer: Guarionex A. Berrido, President (Qualifying Individual).

Elal Moving Corp. dba Global Express, 2262 West Street, Brooklyn, NY 11223. Officers: Bella Grushko, Director (Qualifying Individual), Hanan Assayag, President.

Ocean Freight Forwarder—Ocean Transportation Intermediary Applicants

Falcon Logistics, Inc., 15734 Lee Road, Humble, TX 77396. Officers: Robert F. Beasley, Vice President (Qualifying Individual), Roger Rumsey, President.

Dated: January 23, 2004.
Bryant L. VanBrakle,
Secretary.

[FR Doc. 04-1809 Filed 1-27-04; 8:45 am]

BILLING CODE 6730-01-P